DEPARTMENT OF COMMERCE

National Oceanic and Atmospheric Administration

RIN 0648-XC931

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council's (Council) Scientific and Statistical Committee will hold a wreckfish assessment workshop November 12-14, 2013 in North Charleston, SC. See SUPPLEMENTARY INFORMATION.

DATES: The workshop will be held 1 p.m.-6 p.m., Tuesday, November 12, 2013; 9 a.m.-6 p.m., Wednesday, November 13, 2013; and 9 a.m.-4 p.m., Thursday, November 14, 2013.

ADDRESSES: Meeting address: Hilton Garden Inn, 5265 International Boulevard, North Charleston, SC 29418; telephone: (800) 445-8667 or (843) 308-9330.

Council address: South Atlantic Fishery Management Council, 4055 Faber Place Drive, Suite 201, N. Charleston, SC 29405.

FOR FURTHER INFORMATION CONTACT: Kim Iverson, Public Information Officer, 4055 Faber Place Drive, Suite 201, North Charleston, SC 29405; telephone: (843) 571-4366 or toll free (866) SAFMC-10; fax: (843) 769-4520; email: kim.iverson@safmc.net.

SUPPLEMENTARY INFORMATION: This workshop is being held to discuss issues related to a wreckfish assessment being prepared for SSC and Council consideration. A subcommittee of SSC representatives will meet with the assessment analysts to consider input data, assessment configuration and sensitivity analyses. The outcome of the workshop will consist of guidance to the analysts on addressing data and analytical issues. Final results will be provided to the SSC for peer review at a later date. Topics of discussion include:

1. Assessment data, including landings, effort and biological characteristics of the catch;

2. Model approaches and configuration; and

3. Sensitivity runs and evaluation of uncertainties.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is accessible to people with disabilities. Requests for auxiliary aids should be directed to the SAFMC office (see ADDRESSES) at least 5 business days prior to the meeting.

Note: The times and sequence specified in this agenda are subject to change.

Authority: 16 U.S.C. 1801 et seq.

Dated: October 23, 2013.
Tracey L. Thompson,
Acting Deputy Director, Office of Sustainable Fisheries, National Marine Fisheries Service.

[FR Doc. 2013-25319 Filed 10-25-13; 8:45 am]

BILLING CODE 3510-22-P